DEPARTMENT OF COMMERCE

International Trade Administration

[C-570-968]

Aluminum Extrusions From the People's Republic of China: Final Results of Countervailing Duty Administrative Review and Rescission of Review, in Part; 2018

AGENCY: Enforcement and Compliance, International Trade Administration, Department of Commerce.

SUMMARY: The Department of Commerce (Commerce) has completed its administrative review of the countervailing duty (CVD) order on aluminum extrusions from the People's Republic of China (China) for the period of review (POR) January 1, 2018 through December 31, 2018, and determines that countervailable subsidies are being provided to producers and exporters of aluminum extrusions. The final net countervailable subsidy rates are listed below in the section titled “Final Results of Administrative Review.”

DATES: Applicable January 22, 2021.

FOR FURTHER INFORMATION CONTACT: Davina Friedmann, AD/CVD Operations, Office VI, Enforcement and Compliance, International Trade Administration, U.S. Department of Commerce, 1401 Constitution Avenue NW, Washington, DC 20230; telephone: (202) 482-0698.

SUPPLEMENTARY INFORMATION:

Background

Commerce published the Preliminary Results of this administrative review in the Federal Register on August 5, 2020.¹ We invited parties to comment on the Preliminary Results. No interested party submitted comments or requested a hearing in this administrative review. On April 24, 2020, Commerce tolled all deadlines in administrative reviews by 50 days.² On July 21, 2020, Commerce tolled all deadlines in administrative reviews by an additional 60 days,³ thereby extending the deadline for these final results until January 19, 2021. Commerce conducted this review in accordance with section 751(a)(1)(A) of the Tariff Act of 1930, as amended (the Act).

¹ See Aluminum Extrusions from the People's Republic of China: Preliminary Results of the Countervailing Duty Administrative Review, Rescission of Review, in Part, and Intent to Rescind, in Part; 2018, 85 FR 47349 (August 5, 2020) (Preliminary Results), and accompanying Preliminary Decision Memorandum.

² See Memorandum, “Tolling of Deadlines for Antidumping and Countervailing Duty Administrative Reviews in Response to Operational Adjustments Due to COVID-19,” dated April 24, 2020.

³ See Memorandum, “Tolling of Deadlines for Antidumping and Countervailing Duty Administrative Reviews,” dated July 21, 2020.

Scope of the Order

The merchandise covered by the order is aluminum extrusions from China. The complete description of the scope is provided at Appendix I of this notice.

Changes Since the Preliminary Results

As no party submitted comments on the Preliminary Results, Commerce made no changes for these final results of review.

Rescission of Review

In the Preliminary Results, we stated our intention to rescind the review with respect to companies named in the Initiation Notice for which all review requests were timely withdrawn in accordance with 19 CFR 351.213(d)(1). These companies are listed in Appendix II of this notice. For these companies, Commerce is rescinding the administrative review and will assess duties at rates equal to the rates of the cash deposits for estimated countervailing duties required at the time of entry, or withdrawn from warehouse, for consumption, during the POR, in accordance with 19 CFR 351.212(c)(1).⁴

⁴ See Preliminary Results, 85 FR 47349, 47350.

Final Results of Administrative Review

In accordance with 19 CFR 351.221(b)(5), we determine the following final net subsidy rates for the 2018 administrative review: ⁵

⁵ See Preliminary Results; see also Memorandum, “Administrative Review of Countervailing Duty Order on Aluminum Extrusions from the People's Republic of China: AFA Calculation Memorandum for the Preliminary Results of Review; 2018,” dated August 28, 2020.

Company | Final ad valorem rate (percent)
Activa International Inc | 242.15
Changzou Tenglong Auto Parts Co. Ltd | 16.08
CRRC Changzhou Auto Parts Co. Ltd | 242.15
Dongguan Aoda Aluminum Co. Ltd | 16.08
Guangdong Xingfa Aluminum Co., Ltd | 242.15
Precision Metal Works Ltd | 242.15

Assessment Rates

In accordance with 19 CFR 351.212(b)(2), Commerce intends to issue appropriate assessment instructions to U.S. Customs and Border Protection (CBP) 15 days after publication of these final results of review, to liquidate shipments of subject merchandise produced and/or exported by the companies listed above, entered, or withdrawn from warehouse, for consumption on or after January 1, 2018 through December 31, 2018, at the ad valorem rates listed above.

Cash Deposit Requirements

In accordance with section 751(a)(1) of the Act, Commerce will instruct CBP to collect cash deposits of estimated countervailing duties in the amounts shown for each of the respective companies listed above for shipments of subject merchandise entered, or withdrawn from warehouse, for consumption on or after the date of publication of these final results of review. For all non-reviewed firms, we will instruct CBP to collect cash deposits of estimated countervailing duties at the most recent company-specific or all-others rate applicable to the company, as appropriate. These cash deposit requirements, when imposed, shall remain in effect until further notice.

Administrative Protective Order

This notice serves as a reminder to parties subject to administrative protective order (APO) of their responsibility concerning the destruction of proprietary information disclosed under APO in accordance with 19 CFR 351.305(a)(3), which continues to govern business proprietary information in this segment of the proceeding. Timely written notification of return or destruction of APO materials or conversion to judicial protective order is hereby requested. Failure to comply with the regulations and the terms of an APO is a sanctionable violation.

Notification to Interested Parties

We are issuing and publishing these results in accordance with sections 751(a)(1) and 777(i)(1) of the Act.

Dated: January 13, 2021.
Jeffrey I. Kessler,
Assistant Secretary for Enforcement and Compliance.

Appendix I

Scope of the Order

The merchandise covered by the order{s} is aluminum extrusions which are shapes and forms, produced by an extrusion process, made from aluminum alloys having metallic elements corresponding to the alloy series designations published by The Aluminum Association commencing with the numbers 1, 3, and 6 (or proprietary equivalents or other certifying body equivalents). Specifically, the subject merchandise made from aluminum alloy with an Aluminum Association series designation commencing with the number 1 contains not less than 99 percent aluminum by weight. The subject merchandise made from aluminum alloy with an Aluminum Association series designation commencing with the number 3 contains manganese as the major alloying element, with manganese accounting for not more than 3.0 percent of total materials by weight. The subject merchandise is made from an aluminum alloy with an Aluminum Association series designation commencing with the number 6 contains magnesium and silicon as the major alloying elements, with magnesium accounting for at least 0.1 percent but not more than 2.0 percent of total materials by weight, and silicon accounting for at least 0.1 percent but not more than 3.0 percent of total materials by weight. The subject aluminum extrusions are properly identified by a four-digit alloy series without either a decimal point or leading letter. Illustrative examples from among the approximately 160 registered alloys that may characterize the subject merchandise are as follows: 1350, 3003, and 6060.

Aluminum extrusions are produced and imported in a wide variety of shapes and forms, including, but not limited to, hollow profiles, other solid profiles, pipes, tubes, bars, and rods.

Aluminum extrusions that are drawn subsequent to extrusion (drawn aluminum) are also included in the scope.

Aluminum extrusions are produced and imported with a variety of finishes (both coatings and surface treatments), and types of fabrication. The types of coatings and treatments applied to subject aluminum extrusions include, but are not limited to, extrusions that are mill finished (i.e., without any coating or further finishing), brushed, buffed, polished, anodized (including brightdip anodized), liquid painted, or powder coated. Aluminum extrusions may also be fabricated, i.e., prepared for assembly. Such operations would include, but are not limited to, extrusions that are cut-to-length, machined, drilled, punched, notched, bent, stretched, knurled, swedged, mitered, chamfered, threaded, and spun. The subject merchandise includes aluminum extrusions that are finished (coated, painted, etc.), fabricated, or any combination thereof.

Subject aluminum extrusions may be described at the time of importation as parts for final finished products that are assembled after importation, including, but not limited to, window frames, door frames, solar panels, curtain walls, or furniture. Such parts that otherwise meet the definition of aluminum extrusions are included in the scope. The scope includes the aluminum extrusion components that are attached (e.g., by welding or fasteners) to form subassemblies, i.e., partially assembled merchandise unless imported as part of the finished goods `kit' defined further below. The scope does not include the non-aluminum extrusion components of subassemblies or subject kits.

Subject extrusions may be identified with reference to their end use, such as fence posts, electrical conduits, door thresholds, carpet trim, or heat sinks (that do not meet the finished heat sink exclusionary language below). Such goods are subject merchandise if they otherwise meet the scope definition, regardless of whether they are ready for use at the time of importation.

The following aluminum extrusion products are excluded: aluminum extrusions made from aluminum alloy with an Aluminum Association series designations commencing with the number 2 and containing in excess of 1.5 percent copper by weight; aluminum extrusions made from aluminum alloy with an Aluminum Association series designation commencing with the number 5 and containing in excess of 1.0 percent magnesium by weight; and aluminum extrusions made from aluminum alloy with an Aluminum Association series designation commencing with the number 7 and containing in excess of 2.0 percent zinc by weight.

The scope also excludes finished merchandise containing aluminum extrusions as parts that are fully and permanently assembled and completed at the time of entry, such as finished windows with glass, doors with glass or vinyl, picture frames with glass pane and backing material, and solar panels. The scope also excludes finished goods containing aluminum extrusions that are entered unassembled in a “finished goods kit.” A finished goods kit is understood to mean a packaged combination of parts that contains, at the time of importation, all of the necessary parts to fully assemble a final finished good and requires no further finishing or fabrication, such as cutting or punching, and is assembled “as is” into a finished product. An imported product will not be considered a “finished goods kit” and therefore excluded from the scope of the order{s} merely by including fasteners such as screws, bolts, etc. in the packaging with an aluminum extrusion product.

The scope also excludes aluminum alloy sheet or plates produced by other than the extrusion process, such as aluminum products produced by a method of casting. Cast aluminum products are properly identified by four digits with a decimal point between the third and fourth digit. A letter may also precede the four digits. The following Aluminum Association designations are representative of aluminum alloys for casting: 208.0, 295.0, 308.0, 355.0, C355.0, 356.0, A356.0, A357.0, 360.0, 366.0, 380.0, A380.0, 413.0, 443.0, 514.0, 518.1, and 712.0. The scope also excludes pure, unwrought aluminum in any form.

The scope also excludes collapsible tubular containers composed of metallic elements corresponding to alloy code 1080A as designated by the Aluminum Association where the tubular container (excluding the nozzle) meets each of the following dimensional characteristics: (1) Length of 37 millimeters (“mm”) or 62 mm, (2) outer diameter of 11.0 mm or 12.7 mm, and (3) wall thickness not exceeding 0.13 mm.

Also excluded from the scope of these order{s} are finished heat sinks. Finished heat sinks are fabricated heat sinks made from aluminum extrusions the design and production of which are organized around meeting certain specified thermal performance requirements and which have been fully, albeit not necessarily individually, tested to comply with such requirements.

Also excluded from the scope of the order{s} is certain rectangular wire produced from continuously cast rolled aluminum wire rod, which is subsequently extruded to dimension to form rectangular wire. The product is made from aluminum alloy grade 1070 or 1370, with no recycled metal content allowed. The dimensions of the wire are 5 mm (+/- 0.05 mm) in width and 1.0 mm (+/- 0.02 mm) in thickness. Imports of rectangular wire are provided for under HTSUS category 7605.19.000.

Imports of the subject merchandise are provided for under the following categories of the Harmonized Tariff Schedule of the United States (HTSUS): 7606.12.3091, 7606.12.3096, 7604.21.0010, 7604.21.0090, 7604.29.1010, 7604.29.1090, 7604.29.3060; 7604.29.3090; 7604.29.5050; 7604.29.5090; 8541.90.00.00, 8708.10.30.50, 8708.99.68.90, 6603.90.8100, 7616.99.51, 8479.89.94, 8481.90.9060, 8481.90.9085, 9031.90.9195, 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of these order{s} is dispositive.

Appendix II

List of Companies for Which We Are Rescinding This Administrative Review

1. Acro Import and Export Co.

2. Activa Leisure Inc.

3. Agilent Technologies Co. Ltd (China)

4. Allied Maker Limited

5. Alnan Aluminum Co., Ltd.

6. Alnan Aluminum Ltd.

7. Aluminicaste Fundicion de Mexico

8. AMC Limited

9. AMC Ltd.

10. Anji Chang Hong Chain Manufacturing

11. Anshan Zhongda Industry Co., Ltd.

12. Aoda Aluminium (Hong Kong) Co., Limited

13. AsiaAlum Group

14. Atlas Integrated Manufacturing Ltd.

15. Bath Fitter

16. Behr-Hella Thermocontrol (Shanghai) Co. Ltd.

17. Belton (Asia) Development Limited

18. Belton (Asia) Development Ltd.

19. Birchwoods (Lin'an) Leisure Products Co., Ltd.

20. Bolnar Hong Kong Ltd.

21. Bracalente Metal Products (Suzhou) Co., Ltd.

22. Brilliance General Equipment Co., Ltd.

23. Changshu Changshen Aluminum Products Co., Ltd.

24. Changshu Changsheng Aluminum Products Co., Ltd.

25. Changzhou Changzheng Evaporator Co., Ltd.

26. Changzhou Changzhen Evaporator Co., Ltd.

27. Changzhou Tenglong Auto Accessories Manufacturing Co. Ltd.

28. Changzhou Tenglong Auto Parts Co. Ltd.

29. China Square

30. China Square Industrial Co.

31. China Square Industrial Ltd.

32. China Zhongwang Holdings, Ltd.

33. Chiping One Stop Industrial & Trade Co., Ltd.

34. Classic & Contemporary Inc.

35. Clear Sky Inc.

36. Coclisa S.A. de C.V.

37. Cosco (J.M.) Aluminum Co., Ltd.

38. Cosco (J.M.) Aluminum Development Co. Ltd.

39. Dalian Huacheng Aquatic Products

40. Dalian Liwang Trade Co., Ltd.

41. Danfoss Micro Channel Heat Exchanger (Jia Xing) Co., Ltd.

42. Daya Hardware Co Ltd.

43. Dongguan Dazhan Metal Co., Ltd.

44. Dongguan Golden Tiger Hardware Industrial Co., Ltd.

45. Dongguang Aoda Aluminum Co., Ltd.

46. Dragonluxe Limited

47. Dynabright International Group (HK) Ltd.

48. Dynamic Technologies China

49. ETLA Technology (Wuxi) Co. Ltd.

50. Ever Extend Ent. Ltd.

51. Fenghua Metal Product Factory

52. First Union Property Limited

53. FookShing Metal & Plastic Co. Ltd.

54. Foreign Trade Co. of Suzhou New & High-Tech Industrial Development Zone

55. Foshan City Nanhai Hongjia Aluminum Alloy Co., Ltd.

56. Foshan Golden Source Aluminum Products Co., Ltd.

57. Foshan Guangcheng Aluminium Co., Ltd.

58. Foshan Jinlan Aluminum Co. Ltd.

59. Foshan JinLan Aluminum Co., Ltd.

60. Foshan JMA Aluminum Company Limited

61. Foshan Nanhai Niu Yuan Hardware Product Co., Ltd.

62. Foshan Shunde Aoneng Electrical Appliances Co., Ltd.

63. Foshan Shanshui Fenglu Aluminum Co., Ltd.

64. Foshan Yong Li Jian Aluminum Co., Ltd.

65. Fujian Sanchuan Aluminum Co., Ltd.

66. Fukang Aluminum & Plastic Import and Export Co., Ltd.

67. Fuzhou Sunmodo New Energy Equipment

68. Gaotang Xinhai Economy & Trade Co., Ltd.

69. Genimex Shanghai, Ltd.

70. Global Hi-Tek Precision Co. Ltd

71. Global PMX Dongguan Co., Ltd.

72. Global Point Technology (Far East) Limited

73. Golden Dragon Precise Copper Tube Group, Inc.

74. Gold Mountain International Development, Ltd.

75. Gran Cabrio Capital Pte. Ltd.

76. Gree Electric Appliances

77. Green Line Hose & Fittings

78. GT88 Capital Pte. Ltd.

79. Guang Ya Aluminium Industries (HK) Ltd.

80. Guang Ya Aluminium Industries Co. Ltd.

81. Guang Ya Aluminum Industries Company Ltd.

82. Guangcheng Aluminum Co., Ltd.

83. Guangdong Hao Mei Aluminum Co., Ltd.

84. Guangdong Jianmei Aluminum Profile Company Limited

85. Guangdong JMA Aluminum Profile Factory (Group) Co., Ltd.

86. Guangdong Midea

87. Guangdong Midea Microwave and Electrical Appliances

88. Guangdong Nanhai Foodstuffs Imp. & Exp. Co., Ltd.

89. Guangdong Weiye Aluminum Factory Co., Ltd.

90. Guangdong Whirlpool Electrical Appliances Co., Ltd.

91. Guangdong Xin Wei Aluminum Products Co., Ltd.

92. Guangdong Yonglijian Aluminum Co., Ltd.

93. Guangdong Zhongya Aluminum Company Ltd.

94. Guangzhou Jangho Curtain Wall System Engineering Co., Ltd.

95. Guangzhou Mingcan Die-Casting Hardware Products Co., Ltd.

96. Hangzhou Xingyi Metal Products Co., Ltd.

97. Hanwood Enterprises Limited

98. Hanyung Alcoba Co., Ltd.

99. Hanyung Alcobis Co., Ltd.

100. Hanyung Metal (Suzhou) Co., Ltd.

101. Hao Mei Aluminum Co., Ltd.

102. Hao Mei Aluminum International Co., Ltd.

103. Hebei Xusen Wire Mesh Products Co., Ltd.

104. Henan New Kelong Electrical Appliances Co., Ltd.

105. Henan Zhongduo Aluminum Magnesium New Material Co., Ltd.

106. Hitachi High-Technologies (Shanghai) Co., Ltd.

107. Hong Kong Gree Electric Appliances Sales Limited

108. Hong Kong Modern Non-Ferrous Metal

109. Honsense Development Company

110. Hui Mei Gao Aluminum Foshan Co., Ltd.

111. Huixin Aluminum

112. IDEX Dinglee Technology (Tianjin) Co., Ltd.

113. IDEX Health

114. IDEX Technology Suzhou Co., Ltd.

115. Innovative Aluminum (Hong Kong) Limited

116. iSource Asia

117. Jackson Travel Products Co., Ltd.

118. Jangho Curtain Wall Hong Kong Ltd.

119. Jiangmen Jianghai Foreign Ent. Gen.

120. Jiangmen Jianghai District Foreign Economic Enterprise Corp. Ltd.

121. Jiangmen Qunxing Hardware Diecasting Co., Ltd.

122. Jiangsu Changfa Refrigeration Co.

123. Jiangyin Suncitygaylin

124. Jiangyin Trust International Inc.

125. Jiangyin Xinhong Doors and Windows Co., Ltd.

126. Jiaxing Jackson Travel Products Co., Ltd.

127. Jiaxing Taixin Metal Products Co., Ltd.

128. Jiuyan Co., Ltd.

129. JMA (HK) Company Limited

130. Johnson Precision Engineering (Suzhou) Co., Ltd.

131. Justhere Co., Ltd.

132. Kam Kiu Aluminum Products Sdn Bhd

133. Kanal Precision Aluminum Product Co., Ltd.

134. Karlton Aluminum Company Ltd.

135. Kong Ah International Company Limited

136. Kromet International

137. Kromet International Inc.

138. Kromet Intl Inc.

139. Kunshan Giant Light Metal Technology Co., Ltd.

140. Liaoning Zhong Da Industrial Aluminum Co., Ltd.

141. Liaoning Zhongwang Group Co., Ltd.

142. Liaoyang Zhongwang Aluminum Profile Co. Ltd.

143. Longkou Donghai Trade Co., Ltd.

144. MAAX Bath Inc.

145. MAHLE Holding (China) Co., Ltd.

146. Metal Tech Co Ltd.

147. Metaltek Group Co., Ltd.

148. Metaltek Metal Industry Co., Ltd.

149. Midea Air Conditioning Equipment Co., Ltd.

150. Midea Electric Trading Co., Pte Ltd.

151. Midea International Trading Co., Ltd.

152. Midea International Training Co., Ltd.

153. Miland Luck Limited

154. Nanhai Textiles Import & Export Co., Ltd.

155. New Asia Aluminum & Stainless Steel Product Co., Ltd.

156. New Zhongya Aluminum Factory

157. Nidec Sankyo Singapore Pte. Ltd.

158. Nidec Sankyo (Zhejang) Corporation

159. Nidec Sankyo Zhejiang Corporation

160. Ningbo Coaster International Co., Ltd.

161. Ningbo Hi Tech Reliable Manufacturing Company

162. Ningbo Innopower Tengda Machinery

163. Ningbo Ivy Daily Commodity Co., Ltd.

164. Ningbo Yili Import and Export Co., Ltd.

165. North China Aluminum Co., Ltd.

166. North Fenghua Aluminum Ltd.

167. Northern States Metals

168. PanAsia Aluminum (China) Limited

169. PENCOM Dongguan China

170. Pengcheng Aluminum Enterprise Inc.

171. Permasteelisa Hong Kong Ltd.

172. Permasteelisa South China Factory

173. Pingguo Aluminum Company Limited

174. Pingguo Asia Aluminum Co., Ltd.

175. Popular Plastics Company Limited

176. Press Metal International Ltd.

177. Qingdao Sea Nova Building

178. Samuel, Son & Co., Ltd.

179. Sanchuan Aluminum Co., Ltd.

180. Sanhua (Hangzhou) Micro Channel Heat Exchanger Co., Ltd.

181. Shandong Fukang Aluminum & Plastic Co. Ltd.

182. Shandong Huajian Aluminum Group

183. Shangdong Huasheng Pesticide Machinery Co.

184. Shangdong Nanshan Aluminum Co., Ltd.

185. Shanghai Automobile Air Conditioner Accessories Ltd.

186. Shanghai Automobile Air-Conditioner Accessories Co Ltd.

187. Shanghai Canghai Aluminum Tube Packaging Co., Ltd.

188. Shanghai Dofiberone Composites Co. Ltd.

189. Shanghai Dongsheng Metal

190. Shanghai Shen Hang Imp & Exp Co., Ltd.

191. Shanghai Tongtai Precise Aluminum Alloy Manufacturing Co. Ltd.

192. Shanghai Top-Ranking Aluminum Products Co., Ltd.

193. Shanghai Top-Ranking New Materials Co., Ltd.

194. Shenzhen Hudson Technology Development Co.

195. Shenzhen Jiuyuan Co., Ltd.

196. Sihui Shi Guo Yao Aluminum Co., Ltd.

197. Sincere Profit

198. Skyline Exhibit Systems (Shanghai) Co. Ltd.

199. Southwest Aluminum (Group) Co., Ltd.

200. Springs Window Fashions De Victoria

201. Summit Plastics Nanjing Co. Ltd.

202. Suzhou JRP Import & Export Co., Ltd.

203. Suzhou New Hongji Precision Part Co.

204. Tai-Ao Aluminum (Taishan) Co. Ltd.

205. Taishan City Kam Kiu Aluminium Extrusion Co., Ltd.

206. Taitoh Machinery Shanghai Co. Ltd.

207. Taizhou Lifeng Manufacturing Co., Ltd.

208. Taizhou United Imp. & Exp. Co., Ltd.

209. tenKsolar (Shanghai) Co., Ltd.

210. Tianjin Ganglv Nonferrous Metal Materials Co., Ltd.

211. Tianjin Jinmao Import & Export Corp., Ltd.

212. Tianjin Ruxin Electric Heat Transmission Technology Co., Ltd.

213. Tianjin Xiandai Plastic & Aluminum Products Co., Ltd.

214. Tiazhou Lifeng Manufacturing Corporation

215. Top-Wok Metal Co., Ltd.

216. Traffic Brick Network, LLC

217. Union Aluminum (SIP) Co.

218. Union Industry (Asia) Co., Ltd.

219. USA Worldwide Door Components (Pinghu) Co., Ltd.

220. Wenzhou Shengbo Decoration & Hardware

221. Whirlpool Canada L.P.

222. Whirlpool (Guangdong)

223. Whirlpool Microwave Products Development Ltd.

224. Wonjin Autoparts

225. Worldwide Door Components, Inc.

226. WTI Building Products, Ltd.

227. Wuxi Lutong Fiberglass Doors Co., Ltd.

228. Xinchang Yongqiang Air Conditioning Accessories Co., Ltd.

229. Xin Wei Aluminum Co.

230. Xin Wei Aluminum Company Limited

231. Xinya Aluminum & Stainless Steel Product Co., Ltd.

232. Yuyao Fanshun Import & Export Co., Ltd.

233. Yuyao Haoshen Import & Export

234. Zahoqing China Square Industry Limited

235. Zhaoqing Asia Aluminum Factory Company Ltd.

236. Zhaoqing China Square Industrial Ltd.

237. Zhaoqing China Square Industry Limited

238. Zhaoqing New Zhongya Aluminum Co., Ltd.

239. Zhejiang Anji Xinxiang Aluminum Co., Ltd.

240. Zhejiang Lilies Industrial and Commercial Co.

241. Zhejiang Yili Automobile Air Condition Co., Ltd.

242. Zhejiang Yongkang Listar Aluminum Industry Co., Ltd.

243. Zhejiang Zhengte Group Co., Ltd.

244. Zhenjiang Xinlong Group Co., Ltd.

245. Zhongshan Daya Hardware Co., Ltd.

246. Zhongshan Gold Mountain Aluminum Factory Ltd.

247. Zhongya Shaped Aluminum (HK) Holding Limited

248. Zhuhai Runxingtai Electrical Equipment Co., Ltd.

[FR Doc. 2021-01370 Filed 1-21-21; 8:45 am]

BILLING CODE 3510-DS-P